DEPARTMENT OF COMMERCE

Foreign-Trade Zones Board

[B-40-2016]

Foreign-Trade Zone (FTZ) 133—Quad-Cities, Iowa/Illinois; Notification of Proposed Production Activity; Deere & Company; Subzone 133F (Construction and Forestry Equipment); Dubuque, Iowa

Deere & Company (Deere), operator of Subzone 133F, submitted a notification of proposed production activity to the FTZ Board for its facility within Subzone 133F, located in Dubuque, Iowa. The notification conforming to the requirements of the regulations of the FTZ Board (15 CFR 400.22) was received on May 26, 2016.

The facility is used for the production of construction and forestry equipment. Pursuant to 15 CFR 400.14(b), FTZ activity would be limited to the specific foreign-status materials and components and specific finished products described in the submitted notification (as described below) and subsequently authorized by the FTZ Board.

Production under FTZ procedures could exempt Deere from customs duty payments on the foreign-status components used in export production. On its domestic sales, Deere would be able to choose the duty rate during customs entry procedures that applies to backhoes, crawler dozers, crawler loaders, skid steer loaders, tracked feller bunchers, tracked harvesters, knuckleboom loaders (and their cabs) (duty free) for the foreign-status inputs noted below. Customs duties also could possibly be deferred or reduced on foreign-status production equipment.

The components and materials sourced from abroad include: Silicone dosing module hoses; polyvinyl chloride reflectors; plastic labels/plugs/push button switches/washers/input shaft seals/rings/vent breather clamps/bearings; rubber hoses/hose pipes/transmission hose tubes/rings/o-rings/o-ring kits/dust seals/gaskets/o-ring packings/brake seals/differential assembly shaft seals/oil pan gaskets/seals/guide rings/seal kits/u-rings/boots/bump shifter boots/damper absorbers/door stop bumpers/grommets/ring supports/isolators/mount absorbers/mount isolators; cork gaskets; paper gaskets/seals/installation instructions; adhesive paper anti-skid pads; non-asbestos friction disks; glass rear view mirrors; steel hydraulic reservoir tanks/wiring harness cables/alloy rippers/scarifier plates/alloy u-bolts/screws/bolts/studs/plugs/nuts/retainer plate & nut assemblies/fittings/bushings/springs/lock plates/washers/shims/pins/rings/clutch rollers/kingpins/fasteners/retainers/clamps/straps/caps/balls/beaded adapters/bucket tooth adapter kits/flanges/spacers/cylinder shaft seals/shafts/hose supports/joint assemblies/o-ring fittings/push beam trunnions/return oil lines/ring forks/shim kits/sleeves/splined couplings/couplers/threaded nipples/toolboxes/toolbox assemblies/toolbox lid covers; cast iron raw castings; iron mounting adapters; bronze bushings; copper electric connectors; aluminum valve housings; disk saw teeth; insert teeth; tooth kits; center cutting edges; outer cutting edges; bucket locks; fitting keys; hinge leaves; gas-operated cylinders; brackets; boom stops; latches; dust caps; fuel filler caps; identification plates; diesel engines; gear box pistons; air cleaner hoses; air intake assemblies; air intake stacks; diesel exhaust fluid pressure lines; duct plate manifolds; exhaust gas recirculation clamps; foot well assemblies; fuel lines; oil pans; orifices; piston rings; thermostat assembly covers; thermostat housings; valve covers; hydraulic cylinders; steering cylinders; thumb kit clamps; fan drive motors; hydraulic motors; hydrostatic motors; hydraulic cylinder kits; hydraulic cylinder ports; oil line assemblies; parking brake pistons; steering cylinder kits; steering cylinder rods; cooler bypass manifolds; hydraulic manifolds; hydraulic oil tubes; hydraulic vent assembly tubes; oil line tubes; pressure manifolds; return line hydraulic tubes; return manifolds; reservoir tanks; fuel injection pumps; fuel pumps; oil pumps; regulating valves; gear pumps; hydraulic pumps; main pumps; diesel exhaust fluid lines; charge pump piston rings; disk brake pistons; hydraulic reservoirs; pump shafts; steering cylinder barrels; compressors; blower fan assemblies; exhaust stack diffusers; air conditioners; vapor condensers; evaporator coils; heater/evaporator coils; refrigerant hoses; heater coils; hose assembly breathers; joint breathers; aluminum charge air coolers; heat exchangers; hydraulic oil coolers; oil coolers; condenser cores; fuel filters; fuel inlet tubes; oil filters; oil filter elements; receiver-dryers; transmission oil filters; air cleaners; transmission pump filters; catalytic converters; filter elements; filter heads; air intake guards; boom tubes; catwalk platforms; counterweights; counterweight weldments; door grills; grapple rotators; heel supports; housing weldments; hydraulic boom tubes; hydraulic oil lines; hydraulic reservoirs for forestry equipment; jib boom assemblies; log loader grapples; lower frame cover plates; main boom assemblies; manifold core returns; muffler adapters; pressure tubes; reinforcement plates; stabilizer assemblies; stabilizer manifolds; suction tubes; upper frames; bucket ripper teeth; flare bucket teeth; multi-purpose buckets; backhoe buckets; excavator buckets; loader buckets; skid steer buckets; cutting edge end bits; dozer blades; dozer blade cutting edges; dura-max blade cutting edges; fork assemblies; hydraulic clamp kits; pallet forks; pallet fork tines; ripper shank assemblies; bucket teeth; axles; axle casings; axle housings; axles with differential; ball joints; battery boxes; battery disconnect brackets; boom locks; bottom rollers; brackets; brake assembly shims; brake disks; bucket links; bucket sensor tubes; bucket tooth adapters; bucket tooth plugs; bucket tooth retainers; cast brackets; clutch assembly bearing covers; clutch brake disk carriers; coolant tubes; cooler guards; cooler tubes; cutting edges; diesel emission exhaust fluid lines; disk brake hubs; driver casting assemblies; duct plate housings; dura-max cutting edges; end bits; exhaust pipe assemblies; fan adapters; fan guards; fitting yokes; foot control pedals; four wheel drive axles; front axles; fuel tank assemblies; fuel tank brackets; fuel tank enclosure guards; grill frames; grill frame assemblies; handrail supports; handrail tubes; harness fan drive assemblies; heat shield plates; hood weldments; hydraulic tanks; impact breakers; joint housings; grill frame supports; pipe cylinder lines; loader bucket links; locks; lower carrier plates; machined mounting brackets; mounting plates; oil lines; output shafts; park brake housings; pilot base struts; pin type forks; pistons; piston rods; pivot castings; pivot shifts; brake plates; power link casting assemblies; quick couplers; rear axles; breaker rods; rod assemblies; rubber boom stops; self-leveling arms; service guide links; shift collars; bucket side protector shrouds; side boom assemblies; bucket standard teeth; stabilizer street pads; suction pipe assemblies; support plates; surge tank supports; swivel housings; tie rod assemblies; tie rod ends; transmission mounts; bucket twin tiger teeth; valve mounting brackets; bucket wear shrouds; weldment brackets; wheel flanges; wheel flange hubs; yoke shims; rubber track belts; 4-bolt flange fittings; access panel covers; air flow tubes; air plenums; air cleaner/pre cleaner brackets; axle assemblies; axle drive housings; quick coupler back covers; backer plate weldments; baffle brackets; battery service doors; boom lock assemblies; boom bosses; bracket harnesses; bracket plates; bracket supports; bracket weldments; brake assembly disks; brake housings; brake line tubes; brake pistons; brake shoes; bucket pivot bosses; bucket teeth; bucket tooth pin fasteners; bulkhead brackets; bulkhead plates; cast steps; central ship covers; channel plates; charge air coolers; chin strap guards; bucket chisel teeth; clutch assembly axles; clutch assembly roller sets; cooling module assemblies; cooling packages; cooling package support brackets; cooling system radiators; final drive covers; cover guard assemblies; cross flow oil coolers; cylinder transport brackets; decomposition tubes; diesel exhaust fluid tank header assemblies; diesel exhaust fluid tank lid covers; deflector plates; diesel exhaust fluid insulated pressure lines; diesel exhaust fluid suction lines; differential housings; planetary assembly disks; brake separator disk plates; drive housings; electrical box supports; engine harness bracket assemblies; engine mounting bracket supports; exhaust bracket weldments; exhaust nozzles; exhaust pipes; exhaust stack plenums; fan harness brackets; fan mount plates; fan mounting brackets; fan shroud brackets; filter brackets; fuel filter brackets; foot pedal assemblies; foot throttle brackets; footwell assembly covers; forks; fork tines; frame kits; friction disks; front consoles; fuel filler pipes; fuel tank strap brackets; fuse plate covers; grading buckets; grill covers; grill housing weldments; cylinder guards; gusset weldments; heat shield mount plates; heater line tubes; steel brackets; hub cap covers; hydraulic hose tubes; hydraulic plate partitions; idler brackets; idler bracket weldments; idler covers; impactor breakers; input flanges; input shafts; input shaft hubs; isolator brackets; joystick mounting brackets; jump start covers; linkage electric mechanisms; lift cylinder bosses; load center consoles; load center covers; lower links; lower link assemblies; lower link bosses; lower link kits; lower weldment links; moldboard end bits; mufflers; nozzle assemblies; nut plates; oil tubes; outer accumulator arms; parking brakes; pedal assembly mountings; pedal base assembly brackets; pedal brackets; pedal mounting brackets; pitch link assemblies; pivot arm levers; pivot covers; pivot shafts; plate brackets; pressure bracket assemblies; pump mount brackets; hydraulic pump spacers; push blocks; push beam casting pivots; quik-tach links; rear bumpers; rear engine mount brackets; rippers; relay brackets; retention bosses; retrieval hitches; axle guards; rigid drawbars; ripper frame mounts; ripper lift arms; ripper shanks; blade ripper teeth; ripper/scar beams; riser brackets; scarifier casting links; scraper blades; transmission screens; screen sheet caps; screen shields; separator plates; shafts; shank and tooth assemblies; shank assembly rippers; shank guards; side panel brackets; side shield bumpers; single bar shoes; skid steer mounting frames; sliding front roller frames; spring brackets; standard bucket teeth; bucket star teeth; steel guide rings; steel upper lift arms; steering bellcranks; steering columns; steering links; steering shafts; step assemblies; striker bolt brackets; striker plates; suction tube lines; sulfur compatible mufflers; support assemblies; support brackets; support weldments; surge tank brackets; tandem drive housings; toe guard support angle brackets; toggle/rocker switches; track frames; track frame kits; track frame tie down plates; transmission guards; transmission housing axles; transmission hydrostatic covers; transmission oil line pipes; trunnions; upper carrier plates; upper link bosses; upper rear panel covers; valve brackets; wear plates; weight weldment assembly brackets; yoke dust shields; scarifier attachments; jointers; transmission case covers; breaker mounting frames; shank assemblies; scarifier ripper shanks; scarifier shanks; weld-on shanks; rockers; hand brake arm assemblies; rear axle gussets; access doors; adapter plates; air duct covers; rear cover assemblies; tube assemblies; axle hydraulic system tubes; bar cranks; battery mounting structures; bellcranks; cab guards; casting covers; channels; coolant heater tubes; cooling package brackets; cover plates; cylinder boom tubes; cylinder tubes; dipstick tubes; door latch tubes; elbow flange fittings; engine control panel covers; engine frame guards; extinguisher brackets; fire suppression tubes; flange rollers; frame guard doors; front axle housings; front wheel drive axle guards; fuel filter tubes; fuel tanks; gear housings; gear runners; guard plates; heeler arm half clamps; hinge bracket plates; hose brackets; hose guide plates; hose routing brackets; hydraulic boom system tubes; hydraulic pump manifold tubes; hydraulic pump system tubes; hydraulic reservoir assemblies; hydraulic suction tubes; hydraulic tank covers; hydraulic tubes; keel door guards; front shields; leveling ladders; lift links; links; log forks; lower assembly frames; lower debris guards; lower frames; lower radiator tubes; main booms; main cylinder tubes; main frames; mounting rings; non-leveling ladders; oil filter brackets; pilot line tubes; plate covers; plate guards; platform supports; posts; power management tubes; pressure line tubes; radiators; radiator tubes; rear assembly links; removable panel covers; retainer plates; roller flanges; rotary manifold brackets; routing bridge brackets; saw motor tubes; secondary booms; side hood shields; slider frames; stabilizer feet; steel oil lines; steel one bend tubes; stick cylinder tubes; structural tubes; suction line tubes; suction saw pump tubes; suction tank end tubes; supports; swing table assembly frames; tank assemblies; tank brackets; tank fill return line tubes; tank strap brackets; test manifolds; torque arm brackets; torsional dampers; track drive tubes; track frame kits; oil line tubes; fire suppression tube kits; undercarriages; undercarriage removable plates; valve mount brackets; valve plates; wear plate weldments; wear resistant teeth; weldment covers; weldment doors; weldment supports; wiper/monitor covers; wrist frames; hydraulic accumulators; brake valves; control valves; flow control hydraulic valves; hydraulic pressure valves; single pilot controllers; transmission shift valves; valve kits; solenoid hydraulic valves; check valves; pressure relief valves; vent valves; drain valves; quik-tach couplers; solenoid valves; injection nozzles; manual hydraulic valves; pilot control valves; valves; shifting controllers; electrohydraulic controllers; hydraulic control valves; thermostats; thermostatic control valves; block valves; valve housings; cylinders; disk carrier housings; duct plates; end plates; hydraulic valve plates; joint steering housings; manifold plates; valve pistons; valve spools; thermostat housing with plugs; control valve manifolds; hydraulic manifolds; hydraulic vent tubes; manifolds; quick attach couplers; rotary manifolds; thermostat covers; valve mounting plates; valve sleeves; ball bearings; roller bearings; clutch assembly bearings; axial bearings; needle bearings; clutch assembly ball bearings; cylindrical roller bearings; spherical roller bearings; tapered roller bearings; thrust bearings; clutch assembly roller bearings; needle rollers; bearing cups; bearing races; axle housing shafts; cross pinion shafts; differential shafts; driveshafts; gear pinion shafts; gearbox housing output shafts; power takeoff shafts; rear axle shaft assemblies; stub shafts; sun transmission shafts; torque converter shafts; transmission input shafts; transmission pivot shafts; universal driveshafts; pressed flanged housings; bush bearings; axial guide bushings; bearings; bearing cones; bushings; drive shaft roller bearings; gear thrust washers; handrail spacers; pitch bushings; roll bushings; self-aligning bushings; torque converters; disc brake planetary assemblies; final drives; final drive assemblies; power transmissions; transmissions; transmission motors; axle bevel gears; double flange idlers; idlers; clutches; axle ball joints; cross and bearing assemblies; universal joints; bevel gears; bevel gear drives; carrier disks; center housings; clutch assembly disks; control valve pistons; converter housings; couplings; cross shafts; diaphragms; differential side gears; differential assembly pistons; differential case housings; disk carriers; disk with outer splines; drivers; end yokes; fork shifters; fork tine assemblies; fuel injection pump gears; gears; gear box flanges; gear input flanges; gear separator plates; gearbox splined couplings; helical gears; housings; input clutch gears; internal gears; middle housings; oil feed flanges; output shaft solid shims; output yokes; parking brake pistons; pinion shafts; planetary gears; planetary pinions; planet pinion carriers; planetary assemblies; pressure rings; rear output shafts; rear section housings; ring gears; ring gear and pinions; ring gear and pinion differentials; ring gear carriers; roller sets; running disks; universal joint yoke guards; sealing cap covers; transmission output shaft steel sheets; side gears; spur gears; sun gears; sun gear shafts; synchronizer assemblies; transmission cases; transmission covers; transmission housing covers; transmission oil lines; transmission oil tubes; wheel gears; yokes; yoke with shafts; yoke with tubes; universal joint crosses; universal joint yokes; yokes; clutch assembly disks; clutch assembly pistons; clutch disks; clutch disk plates; clutch kits; clutch plates; diaphragms; disk carrier drums; friction plates; torque converter housings; axle clutch disks; mounting ring plates; output shaft solid shims; output shaft wheel hubs; output yokes; pinions; planet pinion carriers; planetary assemblies; torque converter covers; control valve gaskets; exhaust gas recirculation gaskets; gas exhaust gaskets; steel gaskets; steering shaft guide rings; tube seals; axle housing shaft seals; drive shaft yoke seals; input seal kits; metal gaskets; seal gaskets; seal kits; sealing rings; turbo oil return gaskets; differential output seals; oil seals; oscillating pin seals; shaft seals; wheel end seals; boom lock assemblies; front guards; lower lift arms; lubrication fittings; upper lift arms; winches; wiper motors; electric motor fan assemblies; electric motors; breaker points; alternator belts; alternators; glow plugs; rear lenses; coolant heaters; brake resistors; heater coils; venturi welded assemblies; radar sensors; satellite modules; GPS (global positioning system) antennas; multiband antennas; display monitors; tracked feller buncher monitors; 12-volt resistors; relays; relay modules; push switches; limit switches; locking switches; magnetic pickup switches; parking brake assembly switches; pressure switches; switches; temperature switches; speed sensor connector kits; electrical connector assemblies; control consoles; 12-volt monitors; electrical control kits; electronic control units; ripper control assemblies; transmission controllers; vehicle controllers; shift selectors; steering column modules; flood lamps; magnetic pickup sensors; rotary sensors; self-leveling rotary sensors; transmission sensors; AC (air conditioning)/heater harnesses; engine wiring harnesses; ergo power cables; ignition wiring harnesses; transmission wiring harnesses; cab wiring harnesses; chassis wiring harnesses; control valve wiring harness cables; wiring harnesses; mount frames; cab mount casting isolators; cooling inlet screens; fenders; fender steps; mini hoods; side hoods; side hood weldments; steps; brake drums; brake covers; brake assembly housings; brake plates; disc brakes; park brakes; gear box planetary assemblies; axle bearing covers; driven gears; straight bevel gears; differential bevel gears; differential gear and pinions; drive flanges; gears with teeth; gearshift levers; slip differential housings; pinion shaft assemblies; differential locks; powertrain ring gears; pressure ring housings; half sleeves; ball stud caps; exhaust adaptors; exhaust tube assemblies; muffler pipes; muffler tubes; input gears; shaft assembly rings; clutch disk with outer splines; clutch disks with inner splines; forward clutch shafts; clutch disks; steering column kits; axle assembly ring gears; differential assembly flanges; guide rings; magnetic disks; rear differential bevel gears; section rings; axle guards; axle guard doors; belly pan covers; cylinder guards; diesel exhaust fuel line tubes; engine side shields; exhaust tubes; fan supports; frame supports; fuel leak off hoses; hydraulic plates; rear shields; screen guards; stacking blade cutting edges; thermostat cover with plugs; tie rod end caps; water tank assemblies; lift arms; main booms; mounting frames; mounting rail guides; pivot frames; clutch assembly shafts; flange shaft tubes; end yoke fittings; front differential gear and pinions; pinion gears; planetary shafts; steel oil pipes; air conditioner housings; articulation guards; axle guard doors; bearing covers; control valve plates; cylinder covers; decomposition tube assemblies; differential pressure rings; differential pinion shafts; dust shields; engine side shields; felling head deflector plates; front shields; grill fronts; middle shields; motor actuators; oil suction tubes; planetary drive clutch disks; rear shields; shaft assembly caps; side shafts; speed sensor covers; structure supports; transmission cover plates; transmission pump plates; upper cylinder guards; water tank weldments; yoke deflectors; temperature sensors; thermocouple sensors; diesel exhaust fluid tank headers; electrical system senders; fuel senders; filler tube dipsticks; oil dipsticks; pressure sensors; angle sensors; vehicle monitors; exhaust chemical sensors; chemical sensors; instrument clusters; instrument panels; speed sensors; engine controllers; seat swivel kits; armrest foams; arm pad assemblies; armrest assemblies; and, armrest bracket plates (duty rates range from free to 9%).

Public comment is invited from interested parties. Submissions shall be addressed to the FTZ Board's Executive Secretary at the address below. The closing period for their receipt is August 1, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: June 10, 2016.
Elizabeth Whiteman,
Acting Executive Secretary.

[FR Doc. 2016-14428 Filed 6-17-16; 8:45 am]

BILLING CODE 3510-DS-P